DEPARTMENT OF AGRICULTURE

Forest Service

Forest Resource Coordinating Committee

AGENCY: Forest Service, USDA.

ACTION: Call for nominations.

SUMMARY: The United States Department of Agriculture (USDA) is seeking nominations for the Forest Resource Coordinating Committee (Committee) pursuant to Section 8005 of the Food, Conservation, and Energy Act of 2008 (Act) (Pub. L. 110-246), and the Federal Advisory Committee Act (FACA), (5 U.S.C. App. 2). Additional information on the Committee can be found by visiting the Committee's Web site at: http://www.fs.fed.us/spf/coop/frcc/.

DATES: Written nominations must be received by November 14, 2016. Nominations must contain a completed application packet that includes the nominee's name, resume, cover letter, and completed Form AD-755 (Advisory Committee or Research and Promotion Background Information). The package must be sent to the name and address below.

ADDRESSES: Scott Stewart, USDA Forest Service, Office of Cooperative Forestry, Sidney R. Yates Federal Building, 201 14th Street SW., Mailstop 1123, Washington, DC 20024 by express mail delivery or overnight courier service. Nominations sent via the U.S. Postal Service must be sent to the following address: USDA Forest Service, Office of Cooperative Forestry, State & Private Forestry, Mailstop 1123, 1400 Independence Avenue SW., Washington, DC 20250-1123.

FOR FURTHER INFORMATION CONTACT: Lori McKean, Forest Resource Coordinating Committee Program Coordinator, by telephone at 570-296-9672 or Scott Stewart, Designated Federal Officer (DFO), by telephone at 202-205-1190. Individuals who use telecommunication devices for the deaf (TDD) may call the Federal Information Relay Service (FIRS) at 1-800-877-8339 between 8 a.m. and 5 p.m., Eastern Standard Time, Monday through Friday.

SUPPLEMENTARY INFORMATION:

Background

In accordance with the provisions of FACA, the Secretary of Agriculture is seeking nominations to fill five vacancies that will occur when current appointments expire in December 2016 and January 2017. One vacancy is currently available. The purpose of the Committee is to continue providing direction and coordination of actions within USDA, and coordination with State agencies and the private sector, to effectively address the national priorities for private forest conservation, with specific focus on owners of non-industrial private forest land as described in Section 8005 of the Food, Conservation, and Energy Act of 2008 (Pub. L. 110-246). These priorities include:

1. Conserving and managing working forest landscapes for multiple values and uses.

2. Protecting forests from threats, including catastrophic wildfires, hurricanes, tornadoes, windstorms, snow or ice storms, flooding, drought, invasive species, insect or disease outbreak, or development, and restoring appropriate forest types in response to such threats, and

3. Enhancing public benefits from private forests, including air and water quality, soil conservation, biological diversity, carbon storage, forest products, forestry-related jobs, production of renewable energy, wildlife, wildlife corridors and wildlife habitat, and recreation.

Vacancies

Members appointed to the Committee will be fairly balanced in terms of the points of view represented, functions to be performed, and will represent a broad array of expertise, leadership, and relevancy to a membership category. Geographic balance and a balanced distribution among the categories are also important. Representatives from the following categories will be appointed by the Secretary with staggered terms up to 3 years: (1) Non-industrial Private Forest Landowner (2 vacancies); (2) Private Forestry Consultant (1 vacancy); (3) Conservation District (1 vacancy); and (4) Conservation Organization (1 vacancy). These positions must be associated with such organizations and be willing to represent that sector as it relates to non-industrial private forestry. Vacancies will be filled in the manner in which the original appointment was made.

Nomination and Application Instructions

The appointment of members to the Committee is made by the Secretary of Agriculture.

The public is invited to submit nominations for membership on the Forest Resource Coordinating Committee, either as a self-nomination or a nomination of any qualified and interested person.

Any individual or organization may nominate one or more qualified persons to represent the above vacancies on the Forest Resource Coordinating Committee. To be considered for membership, nominees must provide the following—

1. A resume showing past experience in working successfully as part of a group working on issues and priorities related to the vacancies;

2. A cover letter with a rationale for serving on the Committee and what you can contribute;

3. A completed Form AD-755, Advisory Committee or Research and Promotion Background Information. The Form AD-755 may be obtained from the Forest Service contacts or from the following Web sites: http://www.fs.fed.us/spf/coop/frcc/ and http://www.OCIO.usda.gov/document/ad-755; and

4. Letters of recommendation are welcome.

All nominations will be vetted by USDA. A list of qualified applicants will be prepared from which the Secretary of Agriculture shall appoint members to the Forest Resource Coordinating Committee. Applicants are strongly encouraged to submit nominations via overnight mail or delivery to ensure timely receipt by the USDA. Members of the Committee will serve without compensation, but may be reimbursed for travel expenses while performing duties on behalf of the Committee, subject to approval by the DFO.

Equal opportunity practices, in line with USDA policies, will be followed in all appointments to the Committee. To ensure that the recommendations of the Committee have taken into account the needs of the diverse groups served by the Departments, membership will, to the extent practicable, include individuals with demonstrated ability to represent all racial and ethnic groups, women and men, and persons with disabilities.

Dated: September 16, 2016.
Gregory L. Parham,
Assistant Secretary for Administration.

[FR Doc. 2016-23219 Filed 9-23-16; 8:45 am]

BILLING CODE 3411-15-P